DEPARTMENT OF VETERANS AFFAIRS

[OMB Control No. 2900-0816]

Agency Information Collection Activity: Board of Veterans' Appeals Voice of the Veteran Appellant Satisfaction Survey

AGENCY: Board of Veterans' Appeals, Department of Veterans Affairs.

ACTION: Notice.

SUMMARY: The Board of Veterans' Appeals (Board), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before June 26, 2017.

ADDRESSES: Submit written comments on the collection of information through Federal Docket Management System (FDMS) at www.Regulations.gov or to Sue Hamlin, Board of Veterans' Appeals (01C2), Department of Veterans Affairs, P.O. Box 27063, Washington, DC 20038, or email: sue.hamlin@va.gov. Please refer to “OMB Control No. 2900-0816” in any correspondence. During the comment period, comments may be viewed online through FDMS.

FOR FURTHER INFORMATION CONTACT: Sue Hamlin at (202) 632-5100.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, the Board invites comments on: (1) Whether the proposed collection of information is necessary for the proper performance of the Board's functions, including whether the information will have practical utility; (2) the accuracy of BVA's estimate of the burden of the proposed collection of information; (3) ways to enhance the quality, utility, and clarity of the information to be collected; and (4) ways to minimize the burden of the collection of information on respondents, including through the use of automated collection techniques or the use of other forms of information technology.

Authority: (Pub. L. 104-13; 44 U.S.C. 3501-3521).

Title: Board of Veterans' Appeals Voice of the Veteran Appellant Satisfaction Survey.

OMB Control Number: 2900-0816.

Type of Review: Renewal.

Abstract: This notice solicits comments information needed to enable the Board to gauge the effectiveness of the Board's process delivering information and assistance to Veterans and other appellants, as well as assess Veterans' and other appellants' overall level of satisfaction with the Board's appeals process. In addition, the data will be used by the Board to make improvements to the Board's operational processes and service delivery, which in turn, will enable the Board to serve Veterans in the most efficient and effective way possible.

Currently, the Board collects customer satisfaction data using the Customer Satisfaction Research Study, consisting of two survey instruments—the Appellant Satisfaction Telephone Survey and the Appellant Satisfaction eSurvey. The Board provides a sample to J.D. Power and Associates (JDPA) on a monthly basis of all individuals who have been issued a decision in the previous month. JDPA contacts individuals to participate in a 5-minute phone survey and are asked at the end of the phone survey to provide an email address to participate in a longer online eSurvey. If respondents agree to provide their email address, JDPA sends an email invitation with the eSurvey link. Survey results are aggregated and included in quarterly results reports to the Board. The Board will continue to benefit from obtaining direct feedback from Veterans and other appellants regarding their experience with the Board's appeals process. Specifically, the Veterans' and other appellants' feedback will provide the Board three key benefits: (1) Identify what is most important to them in determining their satisfaction with the Board's appeals process; (2) determine how to improve their experience with the Board's appeals process; and (3) serve to guide training and/or operational activities aimed at enhancing the quality of service provided to Veterans and other appellants.

The Board and JDPA will continue to survey Veterans and other appellants who have had their appeal decided through the Board's appeals process. This will enable the Board to gauge the effectiveness of its process delivering information and assistance to Veterans, as well as assess Veterans' overall level of satisfaction with the Board's appeals experience. In addition, the data will be used by the Board to make potential improvements to its operational processes and service delivery, which in turn, will enable the Board to serve Veterans and other appellants in the most efficient and effective way possible.

Affected Public: Individuals and households.

Estimated Annual Burden: 1,571 hours.

Estimated Average Burden per Respondent: 5 minutes for telephone survey; 12 minutes for eSurvey.

Frequency of Response: One-time.

Estimated Number of Respondents: 14,727 total (11,782 for telephone survey; 2,945 for eSurvey).

By direction of the Secretary.
Cynthia Harvey-Pryor,
Agency Clearance Officer, Office of Privacy and Records Management, Department of Veterans Affairs.

[FR Doc. 2017-08336 Filed 4-24-17; 8:45 am]

BILLING CODE 8320-01-P